DEPARTMENT OF COMMERCE

Foreign-Trade Zones Board

[B-29-2018]

Foreign-Trade Zone 198—Volusia and Flagler Counties, Florida; Application for Reorganization and Expansion Under Alternative Site Framework

An application has been submitted to the Foreign-Trade Zones (FTZ) Board by the County of Volusia, Florida, grantee of FTZ 198, requesting authority to reorganize the zone under the alternative site framework (ASF) adopted by the FTZ Board (15 CFR Sec. 400.2(c)). The ASF is an option for grantees for the establishment or reorganization of zones and can permit significantly greater flexibility in the designation of new subzones or “usage-driven” FTZ sites for operators/users located within a grantee's “service area” in the context of the FTZ Board's standard 2,000-acre activation limit for a zone. The application was submitted pursuant to the Foreign-Trade Zones Act, as amended (19 U.S.C. 81a-81u), and the regulations of the Board (15 CFR part 400). It was formally docketed on May 7, 2018.

FTZ 198 was approved by the FTZ Board on December 17, 1993 (Board Order 671, 58 FR 68115, December 23, 1993). The current zone includes the following sites: Site 1 (2,422 acres)—Daytona Beach International Airport and Daytona Beach Business Park, U.S. Route 92, Daytona; Site 2 (625 acres)—DeLand Airport/Industrial Park, Old Daytona Road, DeLand; Site 3 (1,304 acres)—Ormond Beach Airport/Business Park, Airport Road, Ormond Beach; Site 4 (1,200 acres)—Flagler County Airport, State Road 100, Bunnell; and, Site 5 (589 acres)—Pine Lakes/Palm Coast Industrial Parks, Pine Lakes Highway, Palm Coast.

The grantee's proposed service area under the ASF would be Volusia County, Florida, as described in the application. If approved, the grantee would be able to serve sites throughout the service area based on companies' needs for FTZ designation. The application indicates that the proposed service area is within and adjacent to the Daytona Beach International Airport Customs and Border Protection user-fee airport.

The applicant is requesting authority to reorganize its existing zone project under the ASF as follows: Modify Site 1 by adding new acreage and removing existing acreage due to changed circumstances (new total acreage—1,989 acres); modified Site 1 would be designated as a “magnet” site; and, remove Sites 2, 3, 4 and 5 due to changed circumstances. The ASF allows for the possible exemption of one magnet site from the “sunset” time limits that generally apply to sites under the ASF, and the applicant proposes that modified Site 1 be so exempted.

In accordance with the FTZ Board's regulations, Qahira El-Amin of the FTZ Staff is designated examiner to evaluate and analyze the facts and information presented in the application and case record and to report findings and recommendations to the FTZ Board.

Public comment is invited from interested parties. Submissions shall be addressed to the FTZ Board's Executive Secretary at the address below. The closing period for their receipt is July 10, 2018. Rebuttal comments in response to material submitted during the foregoing period may be submitted during the subsequent 15-day period to July 25, 2018.

A copy of the application will be available for public inspection at the Office of the Executive Secretary, Foreign-Trade Zones Board, Room 21013, U.S. Department of Commerce, 1401 Constitution Avenue NW, Washington, DC 20230-0002, and in the “Reading Room” section of the FTZ Board's website, which is accessible via www.trade.gov/ftz. For further information, contact Qahira El-Amin at Qahira.El-Amin@trade.gov or (202) 482-5928.

Dated: May 7, 2018.
Andrew McGilvray,
Executive Secretary.

[FR Doc. 2018-10071 Filed 5-10-18; 8:45 am]

BILLING CODE 3510-DS-P